DEPARTMENT OF LABOR

Occupational Safety and Health Administration

29 CFR Part 1910

Vinyl Chloride

CFR Correction

In Title 29 of the Code of Federal Regulations, Part 1910.1000 to End, revised as of July 1, 2017, on page 81, in § 1910.1017, paragraph (n) is reinstated to read as follows:

§ 1910.1017 Vinyl chloride.

* * * * *

(n) The employer must, within 15 working days after the receipt of the results of any monitoring performed under this section, notify each affected employee of these results and the steps being taken to reduce exposures within the permissible exposure limit either individually in writing or by posting the results in an appropriate location that is accessible to affected employees.

[FR Doc. 2018-05312 Filed 3-14-18; 8:45 am]

BILLING CODE 1301-00-D